DEPARTMENT OF COMMERCE

National Oceanic and Atmospheric Administration

RIN 0648-XU14

Taking and Importing Marine Mammals; Navy Training Activities Conducted in the Gulf of Alaska

AGENCY: National Marine Fisheries Service (NMFS), National Oceanic and Atmospheric Administration (NOAA), Commerce.

ACTION: Notice; receipt of application for letter of authorization; request for comments and information.

SUMMARY: NMFS has received a request from the U.S. Navy (Navy) for authorization to take marine mammals incidental to military readiness training activities to be conducted in the Gulf of Alaska (GOA) Temporary Maritime Activities Area (TMAA) for the period beginning December 2010 and ending December 2015. Pursuant to the implementing regulations of the Marine Mammal Protection Act (MMPA), NMFS is announcing our receipt of the Navy's request for the development and implementation of regulations governing the incidental taking of marine mammals and inviting information, suggestions, and comments on the Navy's application and request.

DATES: Comments and information must be received no later than March 5, 2010.

ADDRESSES: Comments on the application should be addressed to Michael Payne, Chief, Permits, Conservation and Education Division, Office of Protected Resources, National Marine Fisheries Service, 1315 East-West Highway, Silver Spring, MD 20910-3225. The mailbox address for providing email comments is PR1.0648-XU14@noaa.gov. NMFS is not responsible for e-mail comments sent to addresses other than the one provided here. Comments sent via e-mail, including all attachments, must not exceed a 10-megabyte file size.

FOR FURTHER INFORMATION CONTACT: Jolie Harrison, Office of Protected Resources, NMFS, (301) 713-2289, ext. 166.

SUPPLEMENTARY INFORMATION:

Availability

A copy of the Navy's application may be obtained by writing to the address specified above (See ADDRESSES), telephoning the contact listed above (see FOR FURTHER INFORMATION CONTACT), or visiting the internet at: http://www.nmfs.noaa.gov/pr/permits/incidental.htm. The Navy's Draft Environmental Impact Statement (DEIS) for the GOA TMAA was made available to the public on December 11, 2009, and may be viewed at http://www.gulfofalaskanavyeis.com/. During the initial 45-day public comment period, the Navy hosted five public hearings.

Background

In the case of military readiness activities, sections 101(a)(5)(A) and (D) of the MMPA (16 U.S.C. 1361 et seq.) direct the Secretary of Commerce (Secretary) to allow, upon request, the incidental, but not intentional taking of marine mammals by U.S. citizens who engage in a specified activity (other than commercial fishing) if certain findings are made and regulations are issued or, if the taking is limited to harassment, notice of a proposed authorization is provided to the public for review.

Authorization for incidental takings may be granted if NMFS finds that the taking will have no more than a negligible impact on the species or stock(s), will not have an unmitigable adverse impact on the availability of the species or stock(s) for subsistence uses, and that the permissible methods of taking and requirements pertaining to the mitigation, monitoring and reporting of such taking are set forth.

NMFS has defined “negligible impact” in 50 CFR 216.103 as:

an impact resulting from the specified activity that cannot be reasonably expected to, and is not reasonably likely to, adversely affect the species or stock through effects on annual rates of recruitment or survival.

With respect to military readiness activities, the MMPA defines “harassment” as:

(i) any act that injures or has the significant potential to injure a marine mammal or marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].

Summary of Request

In March 2009, NMFS received an application from the Navy requesting authorization to take individuals of 20 species of marine mammals (15 cetaceans and 5 pinnipeds) incidental to upcoming training activities to be conducted in the GOA TMAA, which is a polygon roughly the shape of a 300 nm by 150 nm rectangle oriented northwest to southeast in the long direction, over the course of 5 years. NMFS subsequently requested additional information, which was provided in the form of a revised application in November, 2009. These training activities are classified as military readiness activities. The Navy states that these training activities may expose some of the marine mammals present in the area to sound from various active tactical sonar sources or to pressure from underwater detonations. The Navy requests authorization to take individuals of 20 species of cetaceans and pinnipeds by Level B Harassment. Further, the Navy requests authorization to take 3 individual beaked whales (of any of the following species: Baird's beaked whale, Cuvier's beaked whale, Stejneger's beaked whale) annually by serious injury or mortality.

Specified Activities

In the application submitted to NMFS, the Navy requests authorization to take marine mammals incidental to conducting training activities utilizing mid- and high frequency active sonar sources and explosive detonations. These sonar and explosive sources will be utilized during Anti-submarine Warfare (ASW) Tracking and Torpedo Exercises, Extended Echo Ranging, Improved Extended Echo Ranging, and Advanced Extended Echo Ranging (EER/IEER/AEER) events, Missile Exercises, Gunnery Exercises, Bombing Exercises, and Sinking Exercises. Table 1-7 in the application lists the activity types, the equipment and platforms involved, and the duration and potential locations of the activities.

The training activities will take place during the summer months, in the form of one or two major exercises or focused activity periods. These exercises or activity periods would each last up to 21 days and consist of multiple component training activities. Unlike Navy Training activities in other areas, the GOA TMAA is not a Range Complex and as such, there are no other or ongoing small scale Navy Training activities conducted outside these activity periods.

Information Solicited

Interested persons may submit information, suggestions, and comments concerning the Navy's request (see ADDRESSES). All information, suggestions, and comments related to the Navy's GOA TMAA request and NMFS' potential development and implementation of regulations governing the incidental taking of marine mammals by the Navy's GOA TMAA activities will be considered by NMFS in developing, if appropriate, the most effective regulations governing the issuance of letters of authorization.

Dated: January 28, 2010.
P. Michael Payne,
Chief, Division of Permits, Conservation, and Education, Director, Office of Protected Resources, National Marine Fisheries Service.

[FR Doc. 2010-2286 Filed 2-2-10; 8:45 am]

BILLING CODE 3510-22-S